DEPARTMENT OF ENERGY

Federal Energy Regulatory Commission

Combined Notice of Filings #2

Take notice that the Commission received the following electric corporate filings:

Docket Numbers: EC14-82-000.

Applicants: Cambria CoGen Company, Orlando CoGen Limited, L.P., Vandolah Power Company L.L.C.

Description: Joint Application for Approval Under Section 203 of the Federal Power Act and Request for Expedited Action and Privileged Treatment of Cambria CoGen Company, et al.

Filed Date: 4/29/14.

Accession Number: 20140429-5081.

Comments Due: 5 p.m. ET 5/20/14.

Take notice that the Commission received the following exempt wholesale generator filings:

Docket Numbers: EG14-46-000.

Applicants: Badger Creek Limited.

Description: Notice of Self-Certification of Exempt Wholesale Generator Status of Badger Creek Limited.

Filed Date: 4/29/14.

Accession Number: 20140429-5273.

Comments Due: 5 p.m. ET 5/20/14.

Take notice that the Commission received the following electric rate filings:

Docket Numbers: ER11-3417-006; ER10-2895-010; ER11-27-005; ER13-2143-003; ER10-3167-002; ER13-203-002; ER11-2292-009; ER11-3942-008; ER11-2293-009; ER10-2917-010; ER11-2294-009; ER12-2447-007; ER13-1613-003; ER10-2918-011; ER12-199-009; ER10-2920-010; ER11-3941-008; ER10-2921-010; ER10-2922-010; ER13-1346-002; ER10-2966-010; ER10-3178-003.

Applicants: Alta Wind VIII, LLC, Bear Swamp Power Company LLC, LSP Safe Harbor Holdings, LLC, Black Bear Development Holdings, LLC, Black Bear Hydro Partners, LLC, Black Bear SO, LLC, Brookfield Energy Marketing Inc., Brookfield Energy Marketing LP, Brookfield Energy Marketing US LLC, Brookfield Power Piney & Deep Creek LLC, Brookfield Renewable Energy Marketing US, Brookfield Smoky Mountain Hydropower LLC, Coram California Development, L.P., Carr Street Generating Station, L.P., Brookfield White Pine Hydro LLC, Erie Boulevard Hydropower, L.P., Great Lakes Hydro America, LLC, Granite Reliable Power, LLC, Windstar Energy, LLC, Rumford Falls Hydro LLC, Mesa Wind Power Corporation, Hawks Nest Hydro LLC.

Description: Notice of Change in Status of the Brookfield Companies under ER11-3417, et al.

Filed Date: 4/28/14.

Accession Number: 20140428-5362.

Comments Due: 5 p.m. ET 5/19/14.

Docket Numbers: ER13-1430-001; ER13-1561-001; ER10-2755-002; ER10-2739-005.

Applicants: Arlington Valley Solar Energy II, LLC, Centinela Solar Energy, LLC, Las Vegas Power Company, LLC, LS Power Marketing, LLC.

Description: Second supplement to June 28, 2013 Triennial Market Power Analysis for the Southwest Region of the LS Power Development, LLC subsidiaries.

Filed Date: 4/29/14.

Accession Number: 20140429-5126.

Comments Due: 5 p.m. ET 5/20/14.

Docket Numbers: ER14-1793-000.

Applicants: Southwest Power Pool, Inc.

Description: 2826R1 Kansas Power Pool & Sunflower Meter Agent Agreement to be effective 4/1/2014.

Filed Date: 4/29/14.

Accession Number: 20140429-5070.

Comments Due: 5 p.m. ET 5/20/14.

Docket Numbers: ER14-1794-000.

Applicants: Tampa Electric Company.

Description: Cancellation—Interchange Service Contract with Southern Company (Unbundled) to be effective 4/30/2014.

Filed Date: 4/29/14.

Accession Number: 20140429-5097.

Comments Due: 5 p.m. ET 5/20/14.

Docket Numbers: ER14-1795-000.

Applicants: Southwest Power Pool, Inc.

Description: 2798 AEP Oklahoma Transmission Company & OGE Inter. Agreement to be effective 4/1/2014.

Filed Date: 4/29/14.

Accession Number: 20140429-5100.

Comments Due: 5 p.m. ET 5/20/14.

Docket Numbers: ER14-1796-000.

Applicants: Southwest Power Pool, Inc.

Description: 2450R1 Kansas Electric Power Cooperative, Inc. NITSA NOA to be effective 4/1/2014.

Filed Date: 4/29/14.

Accession Number: 20140429-5101.

Comments Due: 5 p.m. ET 5/20/14.

Docket Numbers: ER14-1797-000.

Applicants: Southwest Power Pool, Inc.

Description: 2451R2 Kansas Electric Power Cooperative, Inc. NITSA NOA to be effective 4/1/2014.

Filed Date: 4/29/14.

Accession Number: 20140429-5104.

Comments Due: 5 p.m. ET 5/20/14.

Docket Numbers: ER14-1798-000.

Applicants: Southwest Power Pool, Inc.

Description: 2452R1 Kansas Electric Power Cooperative, Inc. NITSA NOA to be effective 4/1/2014.

Filed Date: 4/29/14.

Accession Number: 20140429-5116.

Comments Due: 5 p.m. ET 5/20/14.

Docket Numbers: ER14-1799-000.

Applicants: MidAmerican Energy Company.

Description: Joint Pricing Zone Revenue Allocation Agreement—2nd Revised to be effective 6/1/2014.

Filed Date: 4/29/14.

Accession Number: 20140429-5123.

Comments Due: 5 p.m. ET 5/20/14.

Docket Numbers: ER14-1800-000.

Applicants: Pacific Gas and Electric Company.

Description: 4th Amendment to Extend the PG&E-NCPA Interconnection Agreement to be effective 6/30/2014.

Filed Date: 4/29/14.

Accession Number: 20140429-5180.

Comments Due: 5 p.m. ET 5/20/14.

Docket Numbers: ER14-1801-000.

Applicants: Southern California Edison Company.

Description: GIA & Distribution Service Agreement with Wind Stream Operations, LLC to be effective 4/15/2014.

Filed Date: 4/29/14.

Accession Number: 20140429-5182.

Comments Due: 5 p.m. ET 5/20/14.

Docket Numbers: ER14-1802-000.

Applicants: Pacific Gas and Electric Company.

Description: 4th Amendment to Extend the PG&E-SVP Interconnection Agreement to be effective 6/30/2014.

Filed Date: 4/29/14.

Accession Number: 20140429-5183.

Comments Due: 5 p.m. ET 5/20/14.

Docket Numbers: ER14-1803-000.

Applicants: Southern Company Services, Inc.

Description: Southern Company Services, Inc.'s Notice of Termination of Interchange Contract between Southern Company Services, Inc. and Tampa Electric Company.

Filed Date: 4/29/14.

Accession Number: 20140429-5198.

Comments Due: 5 p.m. ET 5/20/14.

Take notice that the Commission received the following land acquisition reports:

Docket Numbers: LA14-1-000.

Applicants: Tyr Energy, LLC, Commonwealth Chesapeake Company, LLC, Trademark Merchant Energy, LLC, Plains End, LLC, Plains End II, LLC, Rathdrum Power, LLC.

Description: Quarterly Land Acquisition Report of Tyr Energy, LLC, et al. under LA14-1.

Filed Date: 4/29/14.

Accession Number: 20140429-5131.

Comments Due: 5 p.m. ET 5/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2014.
Kimberly D. Bose,
Secretary.

[FR Doc. 2014-10429 Filed 5-6-14; 8:45 am]

BILLING CODE 6717-01-P